DEPARTMENT OF ENERGY

Federal Energy Regulatory Commission

[Docket No. CP03-63-000]

Boundary Gas, Inc.; Notice of Abbreviated Application for Authority to Abandon Service

March 27, 2003.

Take notice that on March 13, 2003, Boundary Gas, Inc. (Boundary), filed an abbreviated application in Docket No. CP03-63-000 pursuant to Section 7(b) of the Natural Gas Act (NGA) and part 157 of the Commission's Regulations for authority to abandon service effective January 15, 2003, all as more fully set forth in the application, which is on file with the Commission and open to public inspection.

Boundary states that the purpose of this filing is to abandon service because the Phase 2 Gas Sales Agreement (Sales Agreement), the long term sales contract under which Boundary's customers purchased gas from Boundary, terminated in accordance with its terms on January 15, 2003, and none of Boundary's current customers have chosen to receive service from Boundary after January 15, 2003. Because the Sales Agreement is incorporated into Boundary's FERC Gas Tariff, Boundary has also made a separate filing to cancel its FERC Gas Tariff. Boundary states that, because Boundary is simply an administrative conduit and has never owned or operated any facilities in connection with its service under the Sales Agreement, it will not be abandoning any facilities and there will be no environmental impact as a result of this abandonment.

Boundary states that copies of this filing were served upon each of Boundary's customers and the state commissions in Connecticut, Massachusetts, New Hampshire, New Jersey, New York and Rhode Island.

Any person desiring to be heard or to protest said filing should file a motion to intervene or a protest with the Federal Energy Regulatory Commission, 888 First Street, NE., Washington, DC 20426, in accordance with sections 385.314 or 385.211 of the Commission's Rules and Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 10, 2003.

Magalie R. Salas,
Secretary.

[FR Doc. 03-8087 Filed 4-2-03; 8:45 am]

BILLING CODE 6717-01-P